ENVIRONMENTAL PROTECTION AGENCY

40 CFR Part 63

[FRL-7204-6]

RIN 2060-AE82

National Emission Standards for Hazardous Air Pollutants: Miscellaneous Organic Chemical Manufacturing and Miscellaneous Coating Manufacturing

AGENCY: Environmental Protection Agency (EPA).

ACTION: Proposed rules; extension of comment period and notice of public hearing.

SUMMARY: This action announces a new date for a public hearing EPA is holding to take comments on the Agency's proposed rule for national emission standards for hazardous air pollutants (NESHAP): Miscellaneous Organic Chemical Manufacturing and Miscellaneous Coating Manufacturing, published on April 4, 2002. The comment period for the above-named action is also being extended.

DATES: Comments. Submit comments on or before June 28, 2002.

Public Hearing. The public hearing will be held on May 23, 2002, from 10 a.m. to 4 p.m. (EST). The hearing may conclude prior to 4 p.m., depending on the number of attendees and level of interest. If you are interested in attending the hearing, you must call the contact person listed below (see FOR FURTHER INFORMATION CONTACT). You must contact the EPA and request to speak at a public hearing by May 10, 2002.

ADDRESSES: Comments. By U.S. Postal Service, send comments (in duplicate if possible) to: Air and Radiation Docket and Information Center (6102), Attention Docket Number A-96-04, U.S. EPA, 1200 Pennsylvania Avenue, NW, Washington, DC 20460. In person or by courier, deliver comments (in duplicate if possible) to: Air and Radiation Docket and Information Center (6102), Attention Docket Number A-96-04, U.S. EPA, 401 M Street, SW, Washington, DC 20460. The EPA requests a separate copy also be sent to the contact person listed below (see FOR FURTHER INFORMATION CONTACT).

Public Hearing. A public hearing will be held at 10 a.m. on May 23, 2002 in the new EPA facility located at 109 T.W. Alexander Drive, Auditorium in Building C, Room C111, Research Triangle Park, North Carolina, 27709.

Docket. Docket No. A-96-04 contains supporting information used in developing the NESHAP. The docket is located at the U.S. EPA, 401 M Street, SW, Washington, DC 20460 in room M-1500, Waterside Mall (ground floor), and may be inspected from 8:30 a.m. to 5:30 p.m., Monday through Friday, excluding legal holidays.

FOR FURTHER INFORMATION CONTACT: For information about the proposed NESHAP, contact Mr. Randy McDonald, Organic Chemicals Group, Emission Standards Division (C504-04), U.S. EPA, Research Triangle Park, North Carolina, 27711, telephone number (919) 541-5402, electronic mail address mcdonald.randy@epa.gov. For information about the public hearing, contact Ms. Maria Noell, Organic Chemicals Group, Emission Standards Division (C504-04), U.S. EPA, Research Triangle Park, North Carolina 27711, telephone number (919) 541-5607, electronic mail address noell.maria@epa.gov.

SUPPLEMENTARY INFORMATION:

Comments

Comments and data may be submitted by electronic mail (e-mail) to: a-and-r-docket@epa.gov. Electronic comments must be submitted either as an ASCII file to avoid the use of special characters and encryption problems or on disks in WordPerfect® file format. All comments and data submitted in electronic form must note the docket number: A-96-04. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Attention: Mr. Randy McDonald, c/o OAQPS Document Control Officer (C404-02), U.S. EPA, Research Triangle Park, NC 27709. The EPA will disclose information identified as CBI only to the extent allowed by the procedures set forth in 40 CFR part 2. If no claim of confidentiality accompanies a submission when it is received by the EPA, the information may be made available to the public without further notice to the commenter.

World Wide Web (WWW)

In addition to being available in the docket, an electronic copy of the proposed NESHAP will also be available on the WWW through the Technology Transfer Network (TTN). Following the Administrator's signature, a copy of the proposed NESHAP will be posted on the TTN's policy and guidance page for newly proposed or promulgated rules at http://www.epa.gov/ttn/oarpg. The TTN provides information and technology exchange in various areas of air pollution control. If more information regarding the TTN is needed, call the TTN HELP line at (919) 541-5384.

The EPA published its proposed rules for the Miscellaneous Organic Chemical Manufacturing source category and the Miscellaneous Coating Manufacturing source category, on April 4, 2002 (67 FR 16154). In the proposed rules, we originally scheduled the public hearing date for May 6, 2002, contingent upon receiving a request for one. We did receive a request to hold a public hearing, so we are announcing that the public hearing date is rescheduled for May 23, 2002. We also scheduled the comment period to end on June 3, 2002; however, we are now extending the comment period to June 28, 2002. We are extending these dates because many of the facilities affected by the proposed rules will also be subject to other proposed MACT standards that will have public comment periods overlapping with the comment periods of the Miscellaneous Organic Chemical Manufacturing and the Miscellaneous Coating Manufacturing NESHAP. In addition, many of these facilities also have actions due, such as precompliance reports, during this same time period on promulgated MACT standards that affect them. This extension of the public comment period and the public hearing date will provide these facilities additional time necessary to better prepare meaningful comments on these proposed rules.

Dated: April 25, 2002.
Robert Brenner,
Acting Assistant Administrator for Air and Radiation.

[FR Doc. 02-10728 Filed 4-30-02; 8:45 am]

BILLING CODE 6560-50-P